NATIONAL ARCHIVES AND RECORDS ADMINISTRATION

Renewal of Advisory Committee on Preservation.

This notice is published in accordance with the provisions of section 9(a)(2) of the Federal Advisory Committee Act (Pub. L. 92-463, 5 U.S.C., App.) and advises of the renewal of the National Archives and Records Administration's (NARA) Advisory Committee on Preservation for a two-year period. In accordance with Office of Management and Budget (OMB) Circular A-135, OMB approved the inclusion of the Advisory Committee on Preservation in NARA's ceiling of discretionary advisory committees.

The Archivist of the United States has determined that the renewal of the Advisory Committee on Preservation is in the public interest due to the expertise and valuable advice the committee members provide on technical preservation issues affecting all types of media. NARA uses the Committee's recommendations in its implementation of strategies for preserving the permanently valuable records of the Federal Government.

Dated: July 12, 2007.
Mary Ann Hadyka,
Committee Management Officer.

[FR Doc. E7-13836 Filed 7-16-07; 8:45 am]

BILLING CODE 7515-01-P